SECURITIES AND EXCHANGE COMMISSION

[Release No. 34-99963; File No. SR-CBOE-2024-008]

Self-Regulatory Organizations; Cboe Exchange, Inc.; Notice of Designation of a Longer Period for Commission Action on a Proposed Rule Change To Adopt a New Rule Regarding Order and Execution Management Systems

April 16, 2024.

On February 13, 2024, Cboe Exchange, Inc. filed with the Securities and Exchange Commission (“Commission”), pursuant to Section 19(b)(1) of the Securities Exchange Act of 1934 (“Act”) ¹ and Rule 19b-4 thereunder,² a proposal to adopt a new rule regarding order and execution management systems. The proposed rule change was published for comment in the Federal Register on March 5, 2024.³ The Commission has received three comment letters regarding the proposed rule change.⁴

¹ 15 U.S.C. 78s(b)(1).

² 17 CFR 240.19b-4.

³ See Securities Exchange Act Release No. 99620 (February 28, 2024), 89 FR 15907 (“Notice”).

⁴ The public comment file for SR-CBOE-2024-008 is available on the Commission's website at https://www.sec.gov/comments/sr-cboe-2024-008/srcboe2024008.htm.

Section 19(b)(2) of the Act ⁵ provides that within 45 days of the publication of notice of the filing of a proposed rule change, or within such longer period up to 90 days as the Commission may designate if it finds such longer period to be appropriate and publishes its reasons for so finding, or as to which the self-regulatory organization consents, the Commission will either approve the proposed rule change, disapprove the proposed rule change, or institute proceedings to determine whether the proposed rule change should be disapproved. The 45th day after publication of the notice for this proposed rule change is April 19, 2024. The Commission is extending this 45-day time period.

⁵ 15 U.S.C. 78s(b)(2).

The Commission finds it appropriate to designate a longer period within which to issue an order approving or disapproving the proposed rule change, so that it has sufficient time to consider the proposed rule change. Accordingly, the Commission, pursuant to Section 19(b)(2) of the Act,⁶ designates June 3, 2024, as the date by which the Commission shall either approve or disapprove the proposed rule change (File No. SR-CBOE-2024-008).

⁶ 15 U.S.C. 78s(b)(2).

For the Commission, by the Division of Trading and Markets, pursuant to delegated authority.⁷
⁷ 17 CFR 200.30-3(a)(31).
Vanessa A. Countryman,
Secretary.

[FR Doc. 2024-08486 Filed 4-19-24; 8:45 am]

BILLING CODE 8011-01-P